DEPARTMENT OF DEFENSE

Department of the Army, Corps of Engineers

33 CFR Part 334

United States Navy Restricted Area, Menominee River, Marinette Marine Corporation Shipyard, Marinette, WI

AGENCY: U.S. Army Corps of Engineers, DoD.

ACTION: Final rule.

SUMMARY: The U.S. Army Corps of Engineers is amending its regulations to establish a restricted area in the waters of the Menominee River at the Marinette Marine Corporation Shipyard in Marinette, Wisconsin. The restricted area is necessary to provide adequate protection of U.S. Navy combat vessels, their materials, equipment to be installed therein, and crew, while located at the property of Marinette Marine Corporation.

DATES: Effective date: June 23, 2011.

ADDRESSES: Headquarters, U.S. Army Corps of Engineers, Operations and Regulatory Community of Practice, 441 G Street, NW., Washington, DC 20314-1000.

FOR FURTHER INFORMATION CONTACT: Mr. David Olson, Headquarters, Operations and Regulatory Community of Practice, Washington, DC at 202-761-4922 or by e-mail at david.b.olson@usace.army.mil or Mr. Todd Vesperman, U.S. Army Corps of Engineers, St. Paul District, Regulatory Branch, at 202-761-4614 or by e-mail at todd.m.vesperman@usace.army.mil.

SUPPLEMENTARY INFORMATION: Pursuant to its authorities under Section 7 of the Rivers and Harbors Act of 1917 (40 State 266; 33 U.S.C. 1) and Chapter XIX of the Army Appropriations Act of 1919 (40 Stat. 892; 33 U.S.C. 3), the Corps is amending restricted area regulations at 33 CFR part 334 by adding § 334.815 to establish a restricted area in the waters of the Menominee River at the Marinette Marine Corporation Shipyard in Marinette, Wisconsin. Marinette Marine Corporation, as shipbuilder of Littoral Combat Ships, has requested on behalf of the Department of Navy, that the restricted area be established to provide adequate protection of U.S. Navy combat vessels, their materials, equipment to be installed therein, and crew, while located at the property of Marinette Marine Corporation.

The proposed rule was published in the November 10, 2010, edition of the Federal Register (75 FR 69034) with the docket number COE-2010-0041. No comments were received. On November 12, 2010, the Corps St. Paul District issued a local public notice soliciting comments on the proposed rule from all known interested parties and no comments were received. After the proposed rule was published to solicit comments, the Department of the Navy requested that the rule text be changed so that the restricted area could be marked with a signed floating buoy line instead of a signed floating barrier. That change has been made to the final rule.

Procedural Requirements

a. Review Under Executive Order 12866. This rule is issued with respect to a military function of the Department of Defense and the provisions of Executive Order 12866 do not apply.

b. Regulatory Flexibility Act, as Amended by the Small Business Regulatory Enforcement Fairness Act of 1996, 5 U.S.C. 601 et seq. This rule has been reviewed under the Regulatory Flexibility Act (Pub. L. 96-354), which requires the preparation of a regulatory flexibility analysis for any regulation that will have a significant economic impact on a substantial number of small entities (i.e., small businesses and small governments). The Corps determined that the establishment of the new restricted area would not have a significant economic impact on a substantial number of small entities.

c. Review Under the National Environmental Policy Act. An environmental assessment (EA) has been prepared. We have concluded that the establishment of the restricted area will not have a significant impact to the quality of the human environment and, therefore, preparation of an environmental impact statement is not required. The final EA and Finding of No Significant Impact may be reviewed at the District Office listed at the end of the FOR FURTHER INFORMATION CONTACT section, above.

d. Unfunded Mandates Reform Act. This rule does not impose an enforceable duty among the private sector and, therefore, is not a Federal private sector mandate and is not subject to the requirements of Section 202 or 205 of the Unfunded Mandates Reform Act (Pub. L. 104-4, 109 Stat. 48, 2 U.S.C. 1501 et seq.). We have also found, under Section 203 of the Act, that small governments will not be significantly or uniquely affected by this rule.

List of Subjects in 33 CFR Part 334

Danger zones, Marine safety, Navigation (water), Restricted areas, Waterways.

For the reasons stated in the preamble, the Corps is amending 33 CFR Part 334 to read as follows:

PART 334—DANGER ZONE AND RESTRICTED AREA REGULATIONS

1. The authority citation for 33 CFR Part 334 continues to read as follows:

Authority: 40 Stat. 266 (33 U.S.C. 1) and 40 Stat. 892 (33 U.S.C. 3).

2. Add § 334.815 to read as follows:

§ 334.815 Menominee River, at the Marinette Marine Corporation Shipyard, Marinette, Wisconsin; Naval Restricted Area.

(a) The area. The waters 100 feet from Marinette Marine Corporation's pier defined by a rectangular shaped area on the south side of the river beginning on shore at the eastern property line of Marinette Marine Corporation at latitude 45°5′58.8″ N, longitude 087°36′56.0″ W; thence northerly to latitude 45°5′59.7″ N, longitude 087°36′55.6″ W; thence westerly to latitude 45°6′3.2″ N, longitude 087°37′9.6″ W; thence southerly to latitude 45°6′2.2″ N, longitude 087°37′10.0″ W; thence easterly along the Marinette Marine Corporation pier to the point of origin. The restricted area will be marked by a lighted and signed floating buoy line.

(b) The regulation. All persons, swimmers, vessels and other craft, except those vessels under the supervision or contract to local military or Naval authority, vessels of the United States Coast Guard, and local or state law enforcement vessels, are prohibited from entering the restricted area when marked by a signed floating buoy line without permission from the United States Navy, Supervisor of Shipbuilding Gulf Coast or his/her authorized representative.

(c) Enforcement. The regulation in this section shall be enforced by the United States Navy, Supervisor of Shipbuilding Gulf Coast and/or such agencies or persons as he/she may designate.

Dated: May 17, 2011.
Michael G. Ensch,
Chief, Operations and Regulatory, Directorate of Civil Works.

[FR Doc. 2011-12816 Filed 5-23-11; 8:45 am]

BILLING CODE 3720-58-P